DEPARTMENT OF COMMERCE

Foreign-Trade Zones Board

[B-65-2017]

Foreign-Trade Zone (FTZ) 92—Harrison County, Mississippi; Notification of Proposed Production Activity; Vision Technologies Marine, Inc. (Ocean-Going Vessels) Pascagoula, Mississippi

The Mississippi Coast Foreign-Trade Zone, Inc., grantee of FTZ 92, submitted a notification of proposed production activity to the FTZ Board on behalf of Vision Technologies Marine, Inc., located in Pascagoula, Mississippi. The notification conforming to the requirements of the regulations of the FTZ Board (15 CFR 400.22) was received on October 10, 2017.

The Vision Technologies Marine, Inc., facility is located within Site 6 of FTZ 92. The facility is used for the construction, repair and refurbishing of ocean-going vessels. Pursuant to 15 CFR 400.14(b), FTZ activity would be limited to the specific foreign-status materials and components and specific finished products described in the submitted notification (as described below) and subsequently authorized by the FTZ Board.

Production under FTZ procedures could exempt Vision Technologies Marine, Inc., from customs duty payments on the foreign-status components used in export production. On its domestic sales, for the foreign-status materials/components noted below, Vision Technologies Marine, Inc., would be able to choose the duty rates during customs entry procedures that apply to: Cargo vessels; passenger vessels; tankers; refrigerated vessels; offshore service vessels; fishing vessels; tugs and pusher craft; dredgers; offshore drilling or production platforms; floating docks; lifeboats; military vessels; and, hulls (duty-free). Vision Technologies Marine, Inc., would be able to avoid duty on foreign-status components which become scrap/waste. Customs duties also could possibly be deferred or reduced on foreign-status production equipment.

The components and materials sourced from abroad include: Polymer adhesives; floor bonding and coating; plastic tubes and joints for generator sets; plastic flooring; pipe segment insulation; plastic generator set spare parts; rubber hoses with fittings; sealing rings; curtains; oil booms; rock wool; glass partitions; steel bulb flats; pressure vessels; fire dampers; galvanized steel pipe supports; steel flanges; marine doors; steel hatch covers; deck transverse stoppers; small steel drums; steel gas cylinders; steel metadisc fasteners; steel washers; steel fasteners; man-holes; ladders, raceways and ramps; expansion bellows; deck socket fittings; hatch covers; aluminum profiles; aluminum wall and ceiling panels; copper nickel flanges; bobbins; handrails; hollow aluminum profiles; aluminum profiles for door and window frames; tin battery boxes and parts; marine door parts; door mounts; aluminum cofferdams; aluminum electrodes; chlorine dosing units; diesel engines; strainers; diesel engine parts; propulsion parts; ride control system parts; ride control systems; cables; stern tube assemblies; fuel oil separators; marine engine spare parts; silencers; propulsion equipment; marine engine seals; main foil assemblies; vulkan shafts; engine manifolds; ride controllers; fuel pumps; reciprocating pumps; rotary pumps; heaters; hydraulic driving systems; N2 booster compression units; blower fans; stock rudder blades; ventilation equipment; cooling plants; heat exchangers; potable water skids; intake filters; water separators; food waste handling system pumps; nitrogen generators; electric winches; winches; straddle carriers; davits; deck machinery; ships spare bushings; computerized monitoring systems; solid waste processors; controls; thrusters; compressors; cooling pumps; pressure valves; solenoid valves; non-return valves; safety relief valves; butterfly and ball valves; hydraulic actuated valves; composite parts; shaft bearings; combined ball and roller bearing kits; shafts; gears; couplings; mechanical seals for water jets; propeller blades and systems; propeller shafts; anti-vibration mounts; propeller nozzles; AC multi-phase electric motors; electric motors not exceeding 373 kW; electrical generators with output exceeding 750 kVA; auxiliary engine generator sets; davit parts; transformers; converter cabinet units; power supplies; horns; bells; gongs; windshield wiper parts; computer parts; hot water calorifiers; ESD shore connections; electrical equipment; central control units; power supplies; control system containers; breakers electrical parts; electrical terminals; bridge firefighting control panels; control and alarm boards; distribution panels; 20A, 20V power supplies; switchboards; electrical components; electrical cables; vibration control equipment; marine evacuation equipment; life boats; marine evacuation system life rafts and components; high pressure flow meters; gas detection systems; inert gas systems; hydraulic power units; helm chairs; table brackets and plates; seats and accessories; furniture; seat parts; searchlights; bathroom modules; and, bilge water separators (duty rate ranges from duty-free to 11.3%). The request indicates that curtains will be admitted to the zone in privileged foreign status (19 CFR 146.41) or domestic status (19 CFR 146.43), thereby precluding inverted tariff benefits on such items. The production activity under FTZ procedures would be subject to the “standard shipyard restriction” applicable to foreign origin steel mill products, which requires that Vision Technologies Marine, Inc., pay all applicable duties on such items.

Public comment is invited from interested parties. Submissions shall be addressed to the Board's Executive Secretary at the address below. The closing period for their receipt is December 4, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: October 18, 2017.
Andrew McGilvray,
Executive Secretary.

[FR Doc. 2017-23024 Filed 10-23-17; 8:45 am]

BILLING CODE 3510-DS-P